FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend, with revision, the Savings and Loan Holding Company Registration Statement (FR LL-10(b); OMB No. 7100-0337).

DATES: The revisions are applicable January 15, 2020.

FOR FURTHER INFORMATION CONTACT:

Federal Reserve Board Clearance Officer—Nuha Elmaghrabi—Office of the Chief Data Officer, Board of Governors of the Federal Reserve System, Washington, DC 20551, (202) 452-3829.

Office of Management and Budget (OMB) Desk Officer—Shagufta Ahmed—Office of Information and Regulatory Affairs, Office of Management and Budget, New Executive Office Building, Room 10235, 725 17th Street NW, Washington, DC 20503, or by fax to (202) 395-6974.

A copy of the Paperwork Reduction Act (PRA) OMB submission, including the reporting form and instructions, supporting statement, and other documentation will be placed into OMB's public docket files. These documents also are available on the Federal Reserve Board's public website at https://www.federalreserve.gov/apps/reportforms/review.aspx or may be requested from the agency clearance officer, whose name appears above.

SUPPLEMENTARY INFORMATION: On June 15, 1984, OMB delegated to the Board authority under the PRA to approve and assign OMB control numbers to collections of information conducted or sponsored by the Board. Board-approved collections of information are incorporated into the official OMB inventory of currently approved collections of information. Copies of the PRA Submission, supporting statements, and approved collection of information instrument(s) are placed into OMB's public docket files.

Final Approval Under OMB Delegated Authority of the Extension for Three Years, With Revision, of the Following Information Collection

Report title: Savings and Loan Holding Company Registration Statement.

Agency form number: FR LL-10(b).

OMB control number: 7100-0337.

Effective date: January 15, 2020.

Frequency: As needed.

Respondents: Savings and Loan Holding Companies (SLHCs).

Estimated number of respondents: 8.

Estimated average hours per response: Reporting: 8; recordkeeping: 0.25.

Estimated annual burden hours: Reporting: 64; recordkeeping: 2; total: 66.

General description of report: The FR LL-10(b) requests information from registering SLHCs on the financial condition, ownership, operations, management, and intercompany relationships of the SLHC and its subsidiaries. Additionally, respondents must include information concerning the transaction that resulted in the respondent becoming an SLHC, a description of the SLHC's business, and a description of any changes related to the financial condition, ownership, operations, intercompany relationships, and management of the SLHC and its subsidiaries since the registrant's application to become an SLHC was approved. The principal executive or principal financial officer of the registering SLHC must certify that the information contained in the submission has been carefully reviewed and is true, correct, and complete.

Current actions: On August 8, 2019, the Board published a notice in the Federal Register (84 FR 38964) requesting public comment for 60 days on the extension, with revision, of the Savings and Loan Holding Company Registration Statement. The Board proposed to make the FR LL-10(b) more consistent with the format of other Board forms and incorporate references to the Board's regulations and to reflect a requirement that respondents retain a copy of the submitted form, which was not currently accounted for by the FR LL-10(b). The comment period for this notice expired on October 7, 2019. The Board did not receive any comments. The revisions will be implemented as proposed.

Board of Governors of the Federal Reserve System, December 11, 2019.
Ann Misback,
Secretary of the Board.

[FR Doc. 2019-27039 Filed 12-13-19; 8:45 am]

BILLING CODE 6210-01-P